DEPARTMENT OF HOMELAND SECURITY

Coast Guard

33 CFR Parts 100, 117, 147, and 165

[USCG-2010-0732]

Quarterly Listings; Safety Zones, Security Zones, Special Local Regulations, and Drawbridge Operation Regulations

AGENCY: Coast Guard, DHS.

ACTION: Notice of expired temporary rules issued.

SUMMARY: This document provides required notice of substantive rules issued by the Coast Guard and temporarily effective between February 2006 and August 2009, that expired before they could be published in the Federal Register. This notice lists temporary safety zones, security zones, special local regulations, and drawbridge operation regulations, all of limited duration and for which timely publication in the Federal Register was not possible.

DATES: This document lists temporary Coast Guard rules between February 10, 2006 and August 9, 2009 that became effective and were terminated before they could be published in the Federal Register.

ADDRESSES: The Docket Management Facility maintains the public docket for this notice. Documents indicated in this notice will be available for inspection or copying at the Docket Management Facility (M-30), U.S. Department of Transportation, West Building ground floor, room W12-140, 1200 New Jersey Avenue, SE., Washington, DC 20590 between 9 a.m. and 5 p.m., Monday through Friday, except Federal holidays.

FOR FURTHER INFORMATION CONTACT: For questions on this notice contact Yeoman First Class Denise Johnson, Office of Regulations and Administrative Law, telephone (202) 372-3862. For questions on viewing, or on submitting material to the docket, contact Ms. Angie Ames, Docket Operations, telephone 202-366-5115.

SUPPLEMENTARY INFORMATION: Coast Guard District Commanders and Captains of the Port (COTP) must be immediately responsive to the safety and security needs within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities and may also describe a zone around a vessel in motion. Special local regulations are issued to enhance the safety of participants and spectators at regattas and other marine events. Drawbridge operation regulations authorize changes to drawbridge schedules to accommodate bridge repairs, seasonal vessel traffic, and local public events. Timely publication of these rules in the Federal Register is often precluded when a rule responds to an emergency, or when an event occurs without sufficient advance notice. The affected public is, however, informed of these rules through Local Notices to Mariners, press releases, and other means. Moreover, actual notification is provided by Coast Guard patrol vessels enforcing the restrictions imposed by the rule. Because Federal Register publication was not possible before the beginning of the effective period, mariners were personally notified of the contents of these safety zones, security zones, special local regulations, regulated navigation areas or drawbridge operation regulations by Coast Guard officials' on-scene prior to any enforcement action. However, the Coast Guard, by law, must publish in the Federal Register notice of substantive rules adopted. To meet this obligation without imposing undue expense on the public, the Coast Guard periodically publishes a list of these temporary safety zones, security zones, special local regulations, regulated navigation areas and drawbridge operation regulations. Permanent rules are not included in this list because they are published in their entirety in the Federal Register. Temporary rules are also published in their entirety if sufficient time is available to do so before they are placed in effect or terminated. The temporary rules listed in this notice have been exempted from review under Executive Order 12666, Regulatory Planning and Review, because of their emergency nature, or limited scope and temporary effectiveness.

The following unpublished rules were placed in effect temporarily during the period between February 2006 and August 2009 unless otherwise indicated.

Dated: August 11, 2010.
S.G. Venckus
Chief, Office of Regulations and Administrative Law.

1st Quarter 2009 Listing
Docket No. | Location | Type | Effective date
COTP Charleston 07-058 | Beaufort, SC | Safety Zones (Parts 147 and 165) | 4/19/2007
COTP Charleston 07-062 | Charleston, SC | Safety Zones (Parts 147 and 165) | 3/26/2007
COTP Charleston 07-095 | Charleston, SC | Safety Zones (Parts 147 and 165) | 5/19/2007
COTP Charleston 07-140 | Hilton Head Island, SC | Safety Zones (Parts 147 and 165) | 6/5/2007
COTP Charleston 07-160 | Edisto Island, SC | Safety Zones (Parts 147 and 165) | 7/1/2007
COTP Charleston 07-161 | Hilton Head Island, SC | Safety Zones (Parts 147 and 165) | 7/4/2007
COTP Charleston 07-169 | Beaufort, SC | Safety Zones (Parts 147 and 165) | 7/13/2007
COTP Charleston 07-242 | Charleston, SC | Safety Zones (Parts 147 and 165) | 11/11/2007
COTP Charleston 07-267 | Charleston, SC | Safety Zones (Parts 147 and 165) | 11/10/2007
COTP Guam 07-003 | Cocos Lagoon, GU | Safety Zones (Parts 147 and 165) | 5/27/2007
COTP Guam 07-004 | Garapan Fishing Base, Saipan | Safety Zones (Parts 147 and 165) | 7/4/2007
COTP Honolulu 07-002 | Honolulu, HI | Security zones (Part 165) | 6/23/2007
COTP Honolulu 07-003 | Honolulu, HI | Safety Zones (Parts 147 and 165) | 9/13/2007
COTP Jacksonville 07-164 | Port Canaveral, FL | Safety Zones (Parts 147 and 165) | 9/27/2007
COTP Jacksonville 07-205 | New Smyrna Beach, FL | Safety Zones (Parts 147 and 165) | 9/22/2007
COTP Jacksonville 07-235 | Port Canaveral, FL | Safety Zones (Parts 147 and 165) | 10/9/2007
COTP Jacksonville 07-249 | Port Canaveral, FL | Safety Zones (Parts 147 and 165) | 10/23/2007
COTP Lower Mississippi River—07-012 | Big Island, TN | Safety Zones (Parts 147 and 165) | 8/29/2007
COTP Lower Mississippi River—07-013 | Klondike Revetment, TN | Safety Zones (Parts 147 and 165) | 9/11/2007
COTP Lower Mississippi River—07-014 | Mayersville Revetment, TN | Safety Zones (Parts 147 and 165) | 9/21/2007
COTP Lower Mississippi River—07-015 | Stack Island, TN | Safety Zones (Parts 147 and 165) | 9/24/2007
COTP Lower Mississippi River—07-016 | Togo Island, TN | Safety Zones (Parts 147 and 165) | 10/1/2007
COTP Lower Mississippi River—07-018 | Palmento Bend, TN | Safety Zones (Parts 147 and 165) | 10/6/2007
COTP Lower Mississippi River—07-019 | Vicksburg Bend, TN | Safety Zones (Parts 147 and 165) | 10/4/2007
COTP Lower Mississippi River—08-014 | Lower Mississippi River, TN | Safety Zones (Parts 147 and 165) | 11/11/2008
COTP Lower Mississippi River—08-018 | Greenville, MS | Safety Zones (Parts 147 and 165) | 11/25/2008
COTP Morgan City—07-012 | New Iberia, LO | Safety Zones (Parts 147 and 165) | 10/2/2007
COTP Morgan City—07-014 | Gulf Intracoastal Waterway | Safety Zones (Parts 147 and 165) | 10/11/2007
COTP Morgan City—07-015 | New Iberia, LO | Safety Zones (Parts 147 and 165) | 10/11/2007
COTP San Francisco Bay 06-013 | Carquinez Strait, CA | Safety Zones (Parts 147 and 165) | 4/24/2006
COTP San Francisco Bay 06-019 | Carquinez Strait, CA | Safety Zones (Parts 147 and 165) | 5/11/2006
COTP San Francisco Bay 06-024 | San Francisco Bay, CA | Safety Zones (Parts 147 and 165) | 7/4/2006
COTP San Francisco Bay 06-025 | San Francisco Bay, CA | Safety Zones (Parts 147 and 165) | 7/4/2006
COTP San Francisco Bay 06-026 | San Francisco Bay, CA | Safety Zones (Parts 147 and 165) | 7/4/2006
COTP San Francisco Bay 06-027 | San Francisco Bay, CA | Safety Zones (Parts 147 and 165) | 7/4/2006
COTP San Francisco Bay 06-028 | San Francisco Bay, CA | Safety Zones (Parts 147 and 165) | 7/4/2006
COTP San Francisco Bay 06-029 | San Francisco Bay, CA | Safety Zones (Parts 147 and 165) | 7/21/2006
COTP San Francisco Bay 06-030 | San Francisco Bay, CA | Safety Zones (Parts 147 and 165) | 7/27/2006
COTP San Francisco Bay 06-032 | San Francisco, CA | Safety Zones (Parts 147 and 165) | 8/9/2006
COTP San Francisco Bay 06-034 | Monterey, CA | Security zones (Part 165) | 7/30/2006
COTP San Francisco Bay 06-040 | Carquinez Strait, CA | Safety Zones (Parts 147 and 165) | 10/11/2006
COTP San Francisco Bay 07-005 | San Francisco Bay, CA | Safety Zones (Parts 147 and 165) | 4/4/2007
COTP San Francisco Bay 07-010 | San Francisco Bay, CA | Safety Zones (Parts 147 and 165) | 5/25/2007
COTP San Francisco Bay 07-011 | San Francisco Bay, CA | Security zones (Part 165) | 4/21/2007
COTP San Francisco Bay 07-013 | Stockton, CA | Safety Zones (Parts 147 and 165) | 4/27/2007
COTP San Francisco Bay 07-014 | San Francisco Bay, CA | Safety Zones (Parts 147 and 165) | 6/6/2007
COTP San Francisco Bay 07-017 | San Francisco Bay, CA | Safety Zones (Parts 147 and 165) | 5/21/2007
COTP San Francisco Bay 07-029 | San Francisco Bay, CA | Safety Zones (Parts 147 and 165) | 7/2/2007
COTP San Francisco Bay 07-030 | San Francisco Bay, CA | Safety Zones (Parts 147 and 165) | 7/7/2007
COTP San Francisco Bay 07-033 | San Francisco Bay, CA | Safety Zones (Parts 147 and 165) | 7/13/2007
COTP San Francisco Bay 07-034 | San Francisco Bay, CA | Safety Zones (Parts 147 and 165) | 7/28/2007
COTP San Francisco Bay 07-037 | San Francisco Bay, CA | Safety Zones (Parts 147 and 165) | 7/27/2007
COTP San Francisco Bay 07-041 | San Joaquin, CA | Safety Zones (Parts 147 and 165) | 8/26/2007
COTP San Francisco Bay 07-043 | South Lake Tahoe, CA | Safety Zones (Parts 147 and 165) | 9/1/2007
COTP San Francisco Bay 07-047 | San Francisco Bay, CA | Safety Zones (Parts 147 and 165) | 10/4/2007
COTP San Francisco Bay 07-054 | San Francisco Bay, CA | Safety Zones (Parts 147 and 165) | 12/8/2007
COTP San Juan 06-062 | Port of Ponce, Puerto Rico | Security zones (Part 165) | 4/1/2006
COTP San Juan 06-071 | Port of Ponce, Puerto Rico | Security zones (Part 165) | 4/15/2006
COTP San Juan 06-086 | Tallaboa, PR | Safety Zones (Parts 147 and 165) | 4/27/2006
COTP San Juan 06-155 | San Juan, PR | Safety Zones (Parts 147 and 165) | 7/23/2006
COTP San Juan 06-167 | San Juan, PR | Safety Zones (Parts 147 and 165) | 8/2/2006
COTP Savannah—06-026 | Savannah, GA | Security zones (Part 165) | 2/10/2006
COTP Savannah—06-049 | Savannah, GA | Security zones (Part 165) | 3/15/2006
COTP Savannah—06-061 | Savannah, GA | Security zones (Part 165) | 3/29/2006
COTP Savannah—06-083 | Savannah, GA | Security zones (Part 165) | 4/28/2006
COTP Savannah—06-144 | Savannah, GA | Security zones (Part 165) | 6/24/2006
COTP Savannah—06-145 | Savannah, GA | Security zones (Part 165) | 6/25/2006
COTP Savannah—06-159 | Savannah, GA | Safety Zones (Parts 147 and 165) | 7/17/2006
COTP Sector Upper Mississippi River—06-024 | Missouri River, MO | Safety Zones (Parts 147 and 165) | 9/15/2006
COTP Sector Upper Mississippi River—06-024 | Missouri River, MO | Safety Zones (Parts 147 and 165) | 9/16/2006
COTP Sector Upper Mississippi River—06-024 | Upper Mississippi River, MO | Safety Zones (Parts 147 and 165) | 11/20/2006
COTP Sector Upper Mississippi River—06-025 | Upper Mississippi River, MO | Safety Zones (Parts 147 and 165) | 12/1/2006
COTP Sector Upper Mississippi River—06-026 | Upper Mississippi River, MO | Safety Zones (Parts 147 and 165) | 12/7/2006
COTP Sector Upper Mississippi River—07-022 | Kaskaskia River, MO | Safety Zones (Parts 147 and 165) | 8/11/2007
COTP Sector Upper Mississippi River—07-023 | Upper Mississippi River, MO | Security zones (Part 165) | 8/8/2007
COTP Sector Upper Mississippi River—07-024 | Upper Mississippi River, MO | Safety Zones (Parts 147 and 165) | 8/4/2007
COTP Sector Upper Mississippi River—07-025 | Missouri River, MO | Safety Zones (Parts 147 and 165) | 8/24/2007
COTP Sector Upper Mississippi River—07-034 | Missouri River, MO | Safety Zones (Parts 147 and 165) | 9/2/2007
COTP Sector Upper Mississippi River—08-005 | St. Croix River, MO | Safety Zones (Parts 147 and 165) | 7/5/2008
COTP Sector Upper Mississippi River—08-017 | Upper Mississippi River, MO | Safety Zones (Parts 147 and 165) | 6/14/2008
COTP Sector Upper Mississippi River—08-023 | Missouri River, MO | Safety Zones (Parts 147 and 165) | 9/11/2008
COTP Sector Upper Mississippi River—08-026 | Upper Mississippi River, MO | Safety Zones (Parts 147 and 165) | 7/4/2008
COTP Sector Upper Mississippi River—08-029 | Missouri River, MO | Safety Zones (Parts 147 and 165) | 6/28/2008
COTP St Louis—06-023 | Kansas City, MO | Safety Zones (Parts 147 and 165) | 9/14/2006
COTP St Louis—06-095 | Evansville, IL | Safety Zones (Parts 147 and 165) | 8/12/2006
COTP Western Alaska—08-001 | Kodiak Island, AK | Safety Zones (Parts 147 and 165) | 7/18/2008
USCG-2007-0089 | West Palm Beach, FL | Safety Zones (Parts 147 and 165) | 12/31/2007
USCG-2007-0125 | Miami, FL | Safety Zones (Parts 147 and 165) | 1/28/2008
USCG-2007-0136 | Hillsborough River, FL | Safety Zones (Parts 147 and 165) | 12/5/2007
USCG-2007-0141 | Miami, FL | Safety Zones (Parts 147 and 165) | 12/31/2007
USCG-2007-0175 | Miami, FL | Safety Zones (Parts 147 and 165) | 12/20/2007
USCG-2007-0178 | Fort Pierce, FL | Safety Zones (Parts 147 and 165) | 1/23/2008
USCG-2007-0181 | Savannah, GA | Security zones (Part 165) | 12/21/2007
USCG-2007-0188 | New London, CT | Safety Zones (Parts 147 and 165) | 12/31/2007
USCG-2007-0192 | Savannah, GA | Security zones (Part 165) | 12/24/2007
USCG-2008-0011 | Gulf of Mexico, FL | Safety Zones (Parts 147 and 165) | 2/7/2008
USCG-2008-0012 | Tampa, FL | Safety Zones (Parts 147 and 165) | 2/16/2008
USCG-2008-0020 | Tampa, FL | Safety Zones (Parts 147 and 165) | 1/20/2008
USCG-2008-0021 | Tampa, FL | Safety Zones (Parts 147 and 165) | 1/20/2008
USCG-2008-0030 | Savannah, GA | Safety Zones (Parts 147 and 165) | 1/16/2008
USCG-2008-0039 | Johns Pass, FL | Safety Zones (Parts 147 and 165) | 1/26/2008
USCG-2008-0040 | Port Canaveral, FL | Safety Zones (Parts 147 and 165) | 2/7/2008
USCG-2008-0042 | Baltimore, MD | Security zones (Part 165) | 1/29/2008
USCG-2008-0043 | Savannah, GA | Security zones (Part 165) | 1/24/2008
USCG-2008-0050 | Atchafalaya Bay, LO | Safety Zones (Parts 147 and 165) | 12/18/2007
USCG-2008-0051 | Peninsula, TX | Safety Zones (Parts 147 and 165) | 2/18/2008
USCG-2008-0055 | Anne Arundel County, MD | Safety Zones (Parts 147 and 165) | 1/28/2008
USCG-2008-0059 | Old Saybrook, CT | Safety Zones (Parts 147 and 165) | 2/29/2008
USCG-2008-0072 | Tampa, FL | Safety Zones (Parts 147 and 165) | 2/9/2008
USCG-2008-0128 | Anne Arundel County, MD | Safety Zones (Parts 147 and 165) | 7/7/2008
USCG-2008-0129 | Lower Chesapeake Bay | Safety Zones (Parts 147 and 165) | 9/6/2008
USCG-2008-0140 | Newport, OR | Safety Zones (Parts 147 and 165) | 7/16/2008
USCG-2008-0141 | Seattle, WA | Security zones (Part 165) | 7/30/2008
USCG-2008-0145 | Anacortes, WA | Safety Zones (Parts 147 and 165) | 5/30/2008
USCG-2008-0160 | Ocean City, MD | Safety Zones (Parts 147 and 165) | 6/9/2008
USCG-2008-0167 | Sunny Isles, FL | Safety Zones (Parts 147 and 165) | 6/20/2008
USCG-2008-0253 | Puget Sound, WA | Safety Zones (Parts 147 and 165) | 6/30/2008
USCG-2008-0254 | Commincement Bay, WA | Safety Zones (Parts 147 and 165) | 7/3/2008
USCG-2008-0255 | Quartermaster Harbor, WA | Safety Zones (Parts 147 and 165) | 7/3/2008
USCG-2008-0274 | Tampa, FL | Safety Zones (Parts 147 and 165) | 4/4/2008
USCG-2008-0292 | Charleston, SC | Safety Zones (Parts 147 and 165) | 5/3/2008
USCG-2008-0322 | San Francisco, CA | Safety Zones (Parts 147 and 165) | 5/14/2008
USCG-2008-0344 | Pittsburgh, PA | Safety Zones (Parts 147 and 165) | 4/25/2008
USCG-2008-0345 | Fort Pierce, FL | Safety Zones (Parts 147 and 165) | 5/7/2008
USCG-2008-0355 | Tampa, FL | Safety Zones (Parts 147 and 165) | 5/16/2008
USCG-2008-0365 | Gulf of Mexico, FL | Safety Zones (Parts 147 and 165) | 5/23/2008
USCG-2008-0367 | Stuart, FL | Safety Zones (Parts 147 and 165) | 5/24/2008
USCG-2008-0372 | Vancouver, WA | Safety Zones (Parts 147 and 165) | 7/4/2008
USCG-2008-0385 | Miami, FL | Security zones (Part 165) | 6/19/2008
USCG-2008-0391 | Harbor, DC | Safety Zones (Parts 147 and 165) | 7/16/2008
USCG-2008-0397 | Savannah, GA | Security zones (Part 165) | 5/9/2008
USCG-2008-0404 | Murrells Inlet, SC | Safety Zones (Parts 147 and 165) | 7/4/2008
USCG-2008-0405 | Moncks, SC | Safety Zones (Parts 147 and 165) | 7/5/2008
USCG-2008-0407 | Fort Pierce, FL | Safety Zones (Parts 147 and 165) | 5/19/2008
USCG-2008-0408 | Fort Pierce, FL | Safety Zones (Parts 147 and 165) | 5/19/2008
USCG-2008-0419 | Fort Lauderdale, FL | Safety Zones (Parts 147 and 165) | 5/29/2008
USCG-2008-0420 | Miami, FL | Safety Zones (Parts 147 and 165) | 5/26/2008
USCG-2008-0422 | Central Massachusetts | Safety Zones (Parts 147 and 165) | 8/16/2008
USCG-2008-0432 | Miami, FL | Safety Zones (Parts 147 and 165) | 6/19/2008
USCG-2008-0437 | Savannah, GA | Security zones (Part 165) | 5/16/2008
USCG-2008-0438 | Savannah, GA | Security zones (Part 165) | 5/19/2008
USCG-2008-0439 | Jacksonville, NC | Safety Zones (Parts 147 and 165) | 8/5/2008
USCG-2008-0443 | San Diego, CA | Safety Zones (Parts 147 and 165) | 7/18/2008
USCG-2008-0444 | San Diego, CA | Safety Zones (Parts 147 and 165) | 7/16/2008
USCG-2008-0447 | Bullhead City, AZ | Safety Zones (Parts 147 and 165) | 7/4/2008
USCG-2008-0452 | Savannah, GA | Security zones (Part 165) | 5/22/2008
USCG-2008-0455 | San Francisco, CA | Safety Zones (Parts 147 and 165) | 6/7/2008
USCG-2008-0457 | Wilmington, NC | Safety Zones (Parts 147 and 165) | 5/15/2008
USCG-2008-0459 | Southport, CT | Safety Zones (Parts 147 and 165) | 5/31/2008
USCG-2008-0463 | Hampton, VA | Safety Zones (Parts 147 and 165) | 8/24/2008
USCG-2008-0467 | Longview, WA | Safety Zones (Parts 147 and 165) | 8/1/2008
USCG-2008-0467 | Longview, WA | Safety Zones (Parts 147 and 165) | 8/31/2008
USCG-2008-0479 | Pittsburgh, PA | Safety Zones (Parts 147 and 165) | 6/28/2008
USCG-2008-0482 | Grand Marais, MI | Safety Zones (Parts 147 and 165) | 6/21/2008
USCG-2008-0493 | New England, ME | Safety Zones (Parts 147 and 165) | 7/13/2008
USCG-2008-0495 | Stockton, CA | Safety Zones (Parts 147 and 165) | 7/2/2008
USCG-2008-0498 | South Lake Tahoe, CA | Safety Zones (Parts 147 and 165) | 7/2/2008
USCG-2008-0501 | Boston, MA | Safety Zones (Parts 147 and 165) | 7/3/2008
USCG-2008-0503 | San Francisco, CA | Safety Zones (Parts 147 and 165) | 7/2/2008
USCG-2008-0506 | Louisville, KY | Safety Zones (Parts 147 and 165) | 6/9/2008
USCG-2008-0507 | Antioch, CA | Safety Zones (Parts 147 and 165) | 7/4/2008
USCG-2008-0508 | San Francisco, CA | Safety Zones (Parts 147 and 165) | 7/4/2008
USCG-2008-0510 | Oakland, CA | Safety Zones (Parts 147 and 165) | 7/4/2008
USCG-2008-0513 | Sarasota, CA | Safety Zones (Parts 147 and 165) | 6/11/2008
USCG-2008-0515 | Homewood, CA | Safety Zones (Parts 147 and 165) | 7/5/2008
USCG-2008-0519 | Cincinnati, OH | Safety Zones (Parts 147 and 165) | 6/28/2008
USCG-2008-0524 | Kings Beach, CA | Safety Zones (Parts 147 and 165) | 7/2/2008
USCG-2008-0525 | El Granada, CA | Safety Zones (Parts 147 and 165) | 7/4/2008
USCG-2008-0526 | Savannah, GA | Security zones (Part 165) | 6/10/2008
USCG-2008-0527 | Ashland, KY | Safety Zones (Parts 147 and 165) | 7/4/2008
USCG-2008-0532 | Southport, CT | Safety Zones (Parts 147 and 165) | 6/21/2008
USCG-2008-0536 | New London, CT | Safety Zones (Parts 147 and 165) | 6/24/2008
USCG-2008-0537 | Seattle, WA | Security zones (Part 165) | 7/30/2008
USCG-2008-0539 | Tacoma, WA | Security zones (Part 165) | 7/3/2008
USCG-2008-0540 | North Bend, OR | Safety Zones (Parts 147 and 165) | 7/3/2008
USCG-2008-0541 | Tacoma, WA | Safety Zones (Parts 147 and 165) | 7/4/2008
USCG-2008-0542 | Portland, OR | Safety Zones (Parts 147 and 165) | 7/4/2008
USCG-2008-0543 | Rainier, OR | Safety Zones (Parts 147 and 165) | 7/12/2008
USCG-2008-0544 | Ilwaco, WA | Safety Zones (Parts 147 and 165) | 7/5/2008
USCG-2008-0545 | Kennewick, WA | Safety Zones (Parts 147 and 165) | 7/4/2008
USCG-2008-0546 | Aberdeen, WA | Safety Zones (Parts 147 and 165) | 7/4/2008
USCG-2008-0548 | Florence, OR | Safety Zones (Parts 147 and 165) | 7/4/2008
USCG-2008-0550 | St Petersburg, FL | Safety Zones (Parts 147 and 165) | 7/4/2008
USCG-2008-0556 | Stockton, CA | Safety Zones (Parts 147 and 165) | 7/4/2008
USCG-2008-0557 | Savannah, GA | Security zones (Part 165) | 6/14/2008
USCG-2008-0558 | Seattle, WA | Security zones (Part 165) | 7/2/2008
USCG-2008-0559 | Bellingham, WA | Safety Zones (Parts 147 and 165) | 7/4/2008
USCG-2008-0560 | Seattle, WA | Safety Zones (Parts 147 and 165) | 7/4/2008
USCG-2008-0561 | Seattle, WA | Safety Zones (Parts 147 and 165) | 7/4/2008
USCG-2008-0562 | Seattle, WA | Security zones (Part 165) | 7/30/2008
USCG-2008-0563 | Portland, OR | Safety Zones (Parts 147 and 165) | 7/3/2008
USCG-2008-0564 | Savannah, GA | Security zones (Part 165) | 6/16/2008
USCG-2008-0565 | Knoxville, TN | Safety Zones (Parts 147 and 165) | 6/20/2008
USCG-2008-0573 | Richmond, CA | Safety Zones (Parts 147 and 165) | 7/3/2008
USCG-2008-0574 | Morgantown, WV | Safety Zones (Parts 147 and 165) | 6/29/2008
USCG-2008-0578 | San Diego, CA | Safety Zones (Parts 147 and 165) | 7/4/2008
USCG-2008-0582 | Pittsburgh, PA | Safety Zones (Parts 147 and 165) | 6/29/2008
USCG-2008-0583 | Huntington Bay, NY | Special Local Regulation (Part 100) | 7/13/2008
USCG-2008-0586 | Grosse Pointe Shores, MI | Safety Zones (Parts 147 and 165) | 6/23/2008
USCG-2008-0587 | New Baltimore, MI | Safety Zones (Parts 147 and 165) | 6/26/2008
USCG-2008-0588 | St Clair Shores, MI | Safety Zones (Parts 147 and 165) | 6/27/2008
USCG-2008-0591 | Hanford, WA | Safety Zones (Parts 147 and 165) | 6/21/2008
USCG-2008-0602 | Savannah, GA | Security zones (Part 165) | 6/20/2008
USCG-2008-0604 | Ohio River, OH | Safety Zones (Parts 147 and 165) | 6/22/2008
USCG-2008-0605 | Port Huron, MI | Safety Zones (Parts 147 and 165) | 6/28/2008
USCG-2008-0606 | Wyandotte, MI | Safety Zones (Parts 147 and 165) | 6/27/2008
USCG-2008-0607 | Bay City, MI | Safety Zones (Parts 147 and 165) | 7/3/2008
USCG-2008-0608 | Paradise, MI | Safety Zones (Parts 147 and 165) | 7/4/2008
USCG-2008-0609 | Cedarville, MI | Safety Zones (Parts 147 and 165) | 7/4/2008
USCG-2008-0613 | Alexandria Bay, NY | Safety Zones (Parts 147 and 165) | 7/4/2008
USCG-2008-0614 | Mackinac Island, MI | Safety Zones (Parts 147 and 165) | 7/4/2008
USCG-2008-0615 | Marquette, MI | Safety Zones (Parts 147 and 165) | 7/4/2008
USCG-2008-0617 | Munising, MI | Safety Zones (Parts 147 and 165) | 7/4/2008
USCG-2008-0618 | Sault Ste. Marie, MI | Safety Zones (Parts 147 and 165) | 7/4/2008
USCG-2008-0619 | St. Ignance, MI | Safety Zones (Parts 147 and 165) | 7/4/2008
USCG-2008-0620 | Baldwinsville, NY | Safety Zones (Parts 147 and 165) | 7/4/2008
USCG-2008-0621 | Tonawanda, NY | Safety Zones (Parts 147 and 165) | 7/4/2008
USCG-2008-0622 | Baltimore, MD | Security zones (Part 165) | 6/27/2008
USCG-2008-0623 | Savannah, GA | Security zones (Part 165) | 6/24/2008
USCG-2008-0624 | Hamlin, NY | Safety Zones (Parts 147 and 165) | 7/5/2008
USCG-2008-0625 | Kendall, NY | Safety Zones (Parts 147 and 165) | 7/5/2008
USCG-2008-0626 | Oswego, NY | Safety Zones (Parts 147 and 165) | 7/6/2008
USCG-2008-0627 | Conneaut, OH | Safety Zones (Parts 147 and 165) | 7/6/2008
USCG-2008-0628 | Sheffield Lake, OH | Safety Zones (Parts 147 and 165) | 7/11/2008
USCG-2008-0632 | Pittsburgh, PA | Safety Zones (Parts 147 and 165) | 6/29/2008
USCG-2008-0633 | Nassau, NY | Drawbridge Operations Regulation (Part 117) | 7/11/2008
USCG-2008-0634 | Baltimore, MD | Security zones (Part 165) | 6/27/2008
USCG-2008-0636 | Courcheville | Security zones (Part 165) | 6/27/2008
USCG-2008-0637 | Buffalo, NY | Safety Zones (Parts 147 and 165) | 7/4/2008
USCG-2008-0638 | Bayfield, WI | Safety Zones (Parts 147 and 165) | 7/4/2008
USCG-2008-0639 | Toledo, OH | Safety Zones (Parts 147 and 165) | 7/4/2008
USCG-2008-0640 | Puget Sound, WA | Safety Zones (Parts 147 and 165) | 7/4/2008
USCG-2008-0642 | Savannah, GA | Security zones (Part 165) | 6/28/2008
USCG-2008-0643 | Grosse Pointe Shores, MI | Safety Zones (Parts 147 and 165) | 7/4/2008
USCG-2008-0644 | Port Austin, MI | Safety Zones (Parts 147 and 165) | 7/4/2008
USCG-2008-0645 | Put-In-Bay, OH | Safety Zones (Parts 147 and 165) | 7/4/2008
USCG-2008-0646 | Alpena, MI | Safety Zones (Parts 147 and 165) | 7/4/2008
USCG-2008-0647 | Harrison Township, MI | Safety Zones (Parts 147 and 165) | 7/4/2008
USCG-2008-0648 | Ecourse, MI | Safety Zones (Parts 147 and 165) | 7/4/2008
USCG-2008-0649 | St. Clair, MI | Safety Zones (Parts 147 and 165) | 7/4/2008
USCG-2008-0650 | Trenton, MI | Safety Zones (Parts 147 and 165) | 7/4/2008
USCG-2008-0651 | Catawba Island, OH | Safety Zones (Parts 147 and 165) | 7/3/2008
USCG-2008-0652 | Perrysburg, OH | Safety Zones (Parts 147 and 165) | 7/3/2008
USCG-2008-0653 | Grosse Isle, MI | Safety Zones (Parts 147 and 165) | 7/4/2008
USCG-2008-0654 | Algonac, MI | Safety Zones (Parts 147 and 165) | 7/5/2008
USCG-2008-0655 | Au Gres, MI | Safety Zones (Parts 147 and 165) | 7/5/2008
USCG-2008-0656 | Lakeside, OH | Safety Zones (Parts 147 and 165) | 7/4/2008
USCG-2008-0657 | Lapointe, WI | Safety Zones (Parts 147 and 165) | 7/4/2008
USCG-2008-0657 | Caseville, MI | Safety Zones (Parts 147 and 165) | 7/5/2008
USCG-2008-0658 | Astoria, OR | Safety Zones (Parts 147 and 165) | 7/4/2008
USCG-2008-0658 | Grosse Pointe Farms, MI | Safety Zones (Parts 147 and 165) | 7/5/2008
USCG-2008-0659 | Harrisville, MI | Safety Zones (Parts 147 and 165) | 7/5/2008
USCG-2008-0660 | Gibraltar, MI | Safety Zones (Parts 147 and 165) | 7/5/2008
USCG-2008-0661 | Luna Pier, MI | Safety Zones (Parts 147 and 165) | 7/5/2008
USCG-2008-0662 | Port Sanilac, MI | Safety Zones (Parts 147 and 165) | 7/5/2008
USCG-2008-0663 | Pittsburgh, PA | Safety Zones (Parts 147 and 165) | 7/3/2008
USCG-2008-0664 | Pittsburgh, PA | Safety Zones (Parts 147 and 165) | 7/4/2008
USCG-2008-0665 | Pittsburgh, PA | Safety Zones (Parts 147 and 165) | 7/4/2008
USCG-2008-0666 | Pittsburgh, PA | Safety Zones (Parts 147 and 165) | 7/4/2008
USCG-2008-0669 | East Setauket, NY | Safety Zones (Parts 147 and 165) | 7/5/2008
USCG-2008-0670 | Port Jefferson, NY | Safety Zones (Parts 147 and 165) | 7/4/2008
USCG-2008-0670 | Huron, OH | Safety Zones (Parts 147 and 165) | 7/5/2008
USCG-2008-0671 | Asharoken, NY | Safety Zones (Parts 147 and 165) | 7/4/2008
USCG-2008-0672 | Shinnecock Canal | Safety Zones (Parts 147 and 165) | 7/2/2008
USCG-2008-0676 | Toledo, OH | Safety Zones (Parts 147 and 165) | 7/3/2008
USCG-2008-0690 | Glenbrook, NV | Safety Zones (Parts 147 and 165) | 7/4/2008
USCG-2008-0693 | Ohio River, OH | Safety Zones (Parts 147 and 165) | 6/25/2008
USCG-2008-0700 | Portland, OR | Safety Zones (Parts 147 and 165) | 7/21/2008
USCG-2008-0701 | Delaware Bay | Safety Zones (Parts 147 and 165) | 7/19/2008
USCG-2008-0702 | Baltimore, MD | Safety Zones (Parts 147 and 165) | 7/9/2008
USCG-2008-0703 | San Clemente, CA | Safety Zones (Parts 147 and 165) | 7/22/2008
USCG-2008-0707 | Port Huron, MI | Regulated Navigation Area (Part 165) | 7/12/2008
USCG-2008-0708 | Detroit, MI | Regulated Navigation Area (Part 165) | 7/10/2008
USCG-2008-0710 | Cape Vincent, NY | Safety Zones (Parts 147 and 165) | 7/12/2008
USCG-2008-0712 | Detroit, MI | Regulated Navigation Area (Part 165) | 7/11/2008
USCG-2008-0713 | Trenton, MI | Regulated Navigation Area (Part 165) | 7/18/2008
USCG-2008-0715 | Boston, MA | Safety Zones (Parts 147 and 165) | 8/2/2008
USCG-2008-0717 | Harbor Beach, MI | Safety Zones (Parts 147 and 165) | 7/12/2008
USCG-2008-0718 | St Clair, MI | Regulated Navigation Area (Part 165) | 7/25/2008
USCG-2008-0719 | Great Lakes, MI | Safety Zones (Parts 147 and 165) | 7/20/2008
USCG-2008-0722 | Pacific Grove, CA | Safety Zones (Parts 147 and 165) | 7/26/2008
USCG-2008-0723 | South Lake Tahoe, CA | Safety Zones (Parts 147 and 165) | 8/31/2008
USCG-2008-0728 | Pittsburgh, PA | Safety Zones (Parts 147 and 165) | 7/20/2008
USCG-2008-0730 | Pittsburgh, CA | Safety Zones (Parts 147 and 165) | 9/7/2008
USCG-2008-0731 | Pittsburgh, PA | Safety Zones (Parts 147 and 165) | 7/26/2008
USCG-2008-0733 | Lake Washington, WA | Special Local Regulation (Part 100) | 8/31/2008
USCG-2008-0734 | Lake Washington, WA | Special Local Regulation (Part 100) | 8/31/2008
USCG-2008-0737 | Portland, OR | Safety Zones (Parts 147 and 165) | 7/26/2008
USCG-2008-0740 | Chicago, IL | Safety Zones (Parts 147 and 165) | 7/21/2008
USCG-2008-0741 | Three Mile Bay, NY | Safety Zones (Parts 147 and 165) | 7/26/2008
USCG-2008-0744 | Annapolis, MD | Special Local Regulation (Part 100) | 11/8/2008
USCG-2008-0745 | Trenton, MI | Safety Zones (Parts 147 and 165) | 7/20/2008
USCG-2008-0748 | Seattle, WA | Security zones (Part 165) | 7/30/2008
USCG-2008-0753 | National Harbor, MD | Safety Zones (Parts 147 and 165) | 8/4/2008
USCG-2008-0756 | Blaine, WA | Safety Zones (Parts 147 and 165) | 7/30/2008
USCG-2008-0757 | Courcheville | Security zones (Part 165) | 7/22/2008
USCG-2008-0764 | Pittsburg, CA | Safety Zones (Parts 147 and 165) | 8/15/2008
USCG-2008-0766 | Mentor Headlands, OH | Safety Zones (Parts 147 and 165) | 8/10/2008
USCG-2008-0768 | Tampa, FL | Safety Zones (Parts 147 and 165) | 8/18/2008
USCG-2008-0773 | San Diego, CA | Safety Zones (Parts 147 and 165) | 7/31/2008
USCG-2008-0774 | San Diego, CA | Safety Zones (Parts 147 and 165) | 8/7/2008
USCG-2008-0775 | San Diego, CA | Safety Zones (Parts 147 and 165) | 8/2/2008
USCG-2008-0779 | Newburyport, MA | Safety Zones (Parts 147 and 165) | 8/2/2008
USCG-2008-0781 | San Diego, CA | Safety Zones (Parts 147 and 165) | 8/11/2008
USCG-2008-0782 | Sunrise, FL | Drawbridge Operations Regulation (Part 117) | 8/18/2008
USCG-2008-0784 | North Palm Beach, FL | Safety Zones (Parts 147 and 165) | 10/11/2008
USCG-2008-0787 | Duluth, MN | Safety Zones (Parts 147 and 165) | 7/31/2008
USCG-2008-0790 | Philadelphia, PA | Safety Zones (Parts 147 and 165) | 7/29/2008
USCG-2008-0793 | San Diego, CA | Safety Zones (Parts 147 and 165) | 8/20/2008
USCG-2008-0795 | Duluth, MN | Safety Zones (Parts 147 and 165) | 8/1/2008
USCG-2008-0800 | Tahoe City, CA | Safety Zones (Parts 147 and 165) | 8/30/2008
USCG-2008-0803 | Glenbrook, NV | Safety Zones (Parts 147 and 165) | 8/9/2009
USCG-2008-0804 | Laughlin, NV | Safety Zones (Parts 147 and 165) | 8/31/2008
USCG-2008-0805 | Cleveland, OH | Safety Zones (Parts 147 and 165) | 8/3/2008
USCG-2008-0806 | Port Puget Sound | Safety Zones (Parts 147 and 165) | 8/8/2008
USCG-2008-0808 | Silverdale, WA | Safety Zones (Parts 147 and 165) | 8/9/2008
USCG-2008-0809 | Buck Island | Safety Zones (Parts 147 and 165) | 11/20/2008
USCG-2008-0815 | Ocean Gate, NJ | Safety Zones (Parts 147 and 165) | 8/16/2008
USCG-2008-0818 | Bridgehampton, NY | Safety Zones (Parts 147 and 165) | 8/9/2008
USCG-2008-0824 | Bridgewater, PA | Safety Zones (Parts 147 and 165) | 8/16/2008
USCG-2008-0826 | Southampton, NY | Safety Zones (Parts 147 and 165) | 8/16/2008
USCG-2008-0842 | San Diego, CA | Safety Zones (Parts 147 and 165) | 10/11/2008
USCG-2008-0849 | Rio Vista | Safety Zones (Parts 147 and 165) | 10/11/2008
USCG-2008-0855 | Miami, FL | Safety Zones (Parts 147 and 165) | 8/14/2008
USCG-2008-0857 | Puget Sound, WA | Security zones (Part 165) | 8/19/2008
USCG-2008-0858 | Quincy Fore River | Safety Zones (Parts 147 and 165) | 8/14/2008
USCG-2008-0861 | San Diego, CA | Security zones (Part 165) | 8/22/2008
USCG-2008-0865 | Ten Pound Island | Safety Zones (Parts 147 and 165) | 8/30/2008
USCG-2008-0867 | Lake Havasu, AZ | Safety Zones (Parts 147 and 165) | 4/24/2008
USCG-2008-0875 | Jacksonville, FL | Safety Zones (Parts 147 and 165) | 8/20/2008
USCG-2008-0876 | Port Angeles, WA | Special Local Regulation (Part 100) | 10/3/2008
USCG-2008-0877 | Olympia, WA | Safety Zones (Parts 147 and 165) | 8/31/2008
USCG-2008-0879 | Somerville, MA | Safety Zones (Parts 147 and 165) | 10/4/2008
USCG-2008-0880 | Hampton Bays, NY | Safety Zones (Parts 147 and 165) | 8/29/2008
USCG-2008-0883 | Superior, WI | Safety Zones (Parts 147 and 165) | 8/22/2008
USCG-2008-0887 | San Diego Bay, CA | Safety Zones (Parts 147 and 165) | 9/18/2008
USCG-2008-0888 | Hartford, CT | Safety Zones (Parts 147 and 165) | 8/21/2008
USCG-2008-0889 | San Diego, CA | Safety Zones (Parts 147 and 165) | 9/13/2008
USCG-2008-0893 | Hampton, VA | Special Local Regulation (Part 100) | 9/5/2008
USCG-2008-0897 | Grosse Pointe Shores, MI | Safety Zones (Parts 147 and 165) | 9/6/2008
USCG-2008-0898 | Chicago, IL | Safety Zones (Parts 147 and 165) | 9/6/2008
USCG-2008-0901 | St. Joseph, MI | Safety Zones (Parts 147 and 165) | 8/31/2008
USCG-2008-0910 | San Diego, CA | Safety Zones (Parts 147 and 165) | 10/8/2008
USCG-2008-0911 | San Diego, CA | Safety Zones (Parts 147 and 165) | 9/19/2008
USCG-2008-0913 | Cleveland, OH | Safety Zones (Parts 147 and 165) | 8/27/2008
USCG-2008-0916 | Fairfax County, VA | Safety Zones (Parts 147 and 165) | 10/23/2008
USCG-2008-0917 | Biscayne Bay, FL | Safety Zones (Parts 147 and 165) | 10/4/2008
USCG-2008-0918 | Pittsburg, CA | Special Local Regulation (Part 100) | 9/7/2008
USCG-2008-0919 | San Diego, CA | Safety Zones (Parts 147 and 165) | 10/6/2008
USCG-2008-0932 | Pittsburgh, PA | Safety Zones (Parts 147 and 165) | 10/4/2008
USCG-2008-0933 | Biscayne Bay, FL | Regulated Navigation Area (Part 165) | 10/11/2008
USCG-2008-0935 | Aptos, CA | Safety Zones (Parts 147 and 165) | 10/11/2008
USCG-2008-0936 | Baltimore, MD | Safety Zones (Parts 147 and 165) | 9/5/2008
USCG-2008-0938 | Virginia-North Carolina | Safety Zones (Parts 147 and 165) | 9/5/2008
USCG-2008-0939 | North Carolina | Safety Zones (Parts 147 and 165) | 9/5/2008
USCG-2008-0941 | Charlottetown | Security zones (Part 165) | 9/10/2008
USCG-2008-0945 | Oahu, HI | Safety Zones (Parts 147 and 165) | 9/4/2008
USCG-2008-0946 | Honolulu, HI | Safety Zones (Parts 147 and 165) | 9/5/2008
USCG-2008-0947 | Honolulu, HI | Safety Zones (Parts 147 and 165) | 9/5/2008
USCG-2008-0967 | San Francisco Bay, CA | Special Local Regulation (Part 100) | 10/11/2008
USCG-2008-0970 | Lake Superior, WI | Safety Zones (Parts 147 and 165) | 9/13/2008
USCG-2008-0979 | San Clemente, CA | Safety Zones (Parts 147 and 165) | 9/23/2008
USCG-2008-0983 | Harris County, TX | Safety Zones (Parts 147 and 165) | 9/17/2008
USCG-2008-0985 | San Diego, CA | Safety Zones (Parts 147 and 165) | 10/3/2008
USCG-2008-0990 | San Diego, CA | Safety Zones (Parts 147 and 165) | 10/19/2008
USCG-2008-0992 | Pittsburgh, PA | Safety Zones (Parts 147 and 165) | 10/4/2008
USCG-2008-0996 | Washington, DC | Safety Zones (Parts 147 and 165) | 9/25/2008
USCG-2008-0999 | Ingleside, TX | Safety Zones (Parts 147 and 165) | 9/25/2008
USCG-2008-1000 | Miami, FL | Safety Zones (Parts 147 and 165) | 9/23/2008
USCG-2008-1003 | New London, CT | Drawbridge Operations Regulation (Part 117) | 10/6/2008
USCG-2008-1005 | Hougton, MI | Safety Zones (Parts 147 and 165) | 9/27/2008
USCG-2008-1008 | San Francisco Bay, CA | Safety Zones (Parts 147 and 165) | 10/10/2008
USCG-2008-1010 | Duxbury, MA | Safety Zones (Parts 147 and 165) | 9/27/2008
USCG-2008-1011 | San Diego Bay, CA | Safety Zones (Parts 147 and 165) | 10/15/2008
USCG-2008-1020 | Cape Canaveral, FL | Drawbridge Operations Regulation (Part 117) | 10/13/2008
USCG-2008-1023 | San Diego, CA | Safety Zones (Parts 147 and 165) | 10/8/2008
USCG-2008-1024 | San Diego, CA | Safety Zones (Parts 147 and 165) | 10/16/2008
USCG-2008-1033 | Detroit, MI | Safety Zones (Parts 147 and 165) | 10/17/2008
USCG-2008-1039 | Paintersville, CA | Drawbridge Operations Regulation (Part 117) | 10/15/2008
USCG-2008-1043 | New Haven, CT | Safety Zones (Parts 147 and 165) | 10/13/2008
USCG-2008-1048 | Natchez, MS | Safety Zones (Parts 147 and 165) | 10/17/2008
USCG-2008-1049 | Cicero, IL | Safety Zones (Parts 147 and 165) | 10/14/2008
USCG-2008-1050 | Kiawah Island, SC | Security zones (Part 165) | 10/10/2008
USCG-2008-1056 | San Juan, PR | Safety Zones (Parts 147 and 165) | 10/13/2008
USCG-2008-1068 | San Francisco Bay, CA | Safety Zones (Parts 147 and 165) | 10/22/2008
USCG-2008-1069 | Miami, FL | Security zones (Part 165) | 11/11/2008
USCG-2008-1075 | San Diego, CA | Safety Zones (Parts 147 and 165) | 11/21/2008
USCG-2008-1076 | San Francisco, CA | Safety Zones (Parts 147 and 165) | 10/24/2008
USCG-2008-1086 | San Diego, CA | Safety Zones (Parts 147 and 165) | 11/14/2008
USCG-2008-1089 | Charles County, MD | Security zones (Part 165) | 10/30/2008
USCG-2008-1098 | Chicago, IL | Security zones (Part 165) | 11/4/2008
USCG-2008-1100 | New York, NY | Security zones (Part 165) | 11/11/2008
USCG-2008-1103 | San Diego, CA | Safety Zones (Parts 147 and 165) | 12/31/2008
USCG-2008-1115 | San Diego, CA | Safety Zones (Parts 147 and 165) | 12/15/2008
USCG-2008-1123 | National Harbor, MD | Safety Zones (Parts 147 and 165) | 11/24/2008
USCG-2008-1127 | Maury Island, WA | Safety Zones (Parts 147 and 165) | 1/13/2009
USCG-2008-1138 | San Clemente, CA | Safety Zones (Parts 147 and 165) | 11/25/2008
USCG-2008-1142 | Yaphank, NY | Drawbridge Operations Regulation (Part 117) | 11/24/2008
USCG-2008-1145 | Charleston, SC | Safety Zones (Parts 147 and 165) | 12/10/2008
USCG-2008-1153 | Tomkins Cove, NY | Safety Zones (Parts 147 and 165) | 11/25/2008
USCG-2008-1159 | Kodiak Island, AK | Safety Zones (Parts 147 and 165) | 12/5/2008
USCG-2008-1174 | Chicago, IL | Safety Zones (Parts 147 and 165) | 12/13/2008
USCG-2008-1181 | Charles City County, VA | Safety Zones (Parts 147 and 165) | 2/2/2009
USCG-2008-1182 | Annapolis, MD | Safety Zones (Parts 147 and 165) | 12/13/2008
USCG-2008-1199 | Tillamook Bay, OR | Safety Zones (Parts 147 and 165) | 12/12/2008
USCG-2008-1202 | Depoe Bay, OR | Safety Zones (Parts 147 and 165) | 12/25/2008
USCG-2008-1204 | Chetco River, OR | Safety Zones (Parts 147 and 165) | 12/28/2008
USCG-2008-1219 | Oceanside, CA | Safety Zones (Parts 147 and 165) | 4/4/2009
USCG-2008-1221 | Parker, AZ | Safety Zones (Parts 147 and 165) | 4/17/2009
USCG-2008-1222 | Pittsburgh, PA | Safety Zones (Parts 147 and 165) | 5/2/2009
USCG-2008-1233 | Puerto Rico | Security zones (Part 165) | 1/2/2009
USCG-2008-1234 | San Juan, PR | Safety Zones (Parts 147 and 165) | 1/2/2009
USCG-2008-1235 | Oahu, HI | Security zones (Part 165) | 12/22/2008
USCG-2008-1245 | Tillamook Bay, OR | Safety Zones (Parts 147 and 165) | 2/11/2009
USCG-2008-1250 | New Haven, CT | Safety Zones (Parts 147 and 165) | 12/30/2008
USCG-2008-1260 | Laughlin, NV | Safety Zones (Parts 147 and 165) | 5/24/2009
USCG-2008-1266 | New Haven, CT | Safety Zones (Parts 147 and 165) | 1/6/2009
USCG-2008-1272 | Massachusetts Bay, Ma | Safety Zones (Parts 147 and 165) | 3/14/2009

[FR Doc. 2010-20249 Filed 8-16-10; 8:45 am]

BILLING CODE 9110-04-P